FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 7, 2001.

A. Federal Reserve Bank of Atlanta (Cynthia C. Goodwin, Vice President) 1000 Peachtree Street, N.E., Atlanta, Georgia 30309-4470:

1. Paul B. Landry, Jr. Charitable Remainder Trust, Port Allen, Louisiana; Herman Joseph Lowe, Port Allen, Louisiana; and Sylvia Rodriguez Landry, Baton Rouge, Louisiana; to collectively retain 16.60 percent of the outstanding voting shares of West Baton Rouge Bancshares, Inc., and its subsidiary, Bank of West Baton Rouge, both of Port Allen, Louisiana.

B. Federal Reserve Bank of Minneapolis (JoAnne F. Lewellen, Assistant Vice President) 90 Hennepin Avenue, Minneapolis, Minnesota 55480-0291:

1. Robert L. Frei, Wagner, South Dakota; to acquire voting shares of Commercial Holding Company, Wagner, South Dakota, and thereby indirectly acquire voting shares of Commercial State Bank of Wagner, Wagner, South Dakota.

Board of Governors of the Federal Reserve System, August 20, 2001.
Jennifer J. Johnson,
Secretary of the Board.

[FR Doc. 01-21459 Filed 8-23-01; 8:45 am]

BILLING CODE 6210-01-S